DEPARTMENT OF DEFENSE

Department of the Navy

Notice of Rescheduled Public Scoping Meetings for the Environmental Impact Statement (EIS) for Naval Surface Warfare Center Panama City (NSWCPC) Mission Activities

AGENCY: Department of the Navy, DOD.

ACTION: Notice.

SUMMARY: Pursuant to Section (102)(2)(c) of the National Environmental Policy Act (NEPA) of 1969, as implemented by the Council on Environmental Quality Regulations (40 CFR parts 1500-1508), the Department of the Navy (Navy) announced its intent to prepare an Environmental Impact Statement (EIS) in 69 FR 51453, Aug. 19, 2004. The Notice of Intent included an announcement for public scoping meetings that have since been cancelled due to the hurricane threat. This notice announces the dates and locations of the rescheduled public scoping meetings.

DATES: Public scoping meetings will be held in Panama City, FL; Port St. Joe, FL; and Pensacola, FL, to receive oral and written comments on environmental concerns that should be addressed in the EIS. The public meeting dates are as follows:

1. Tuesday, October 5, 2004, 6 p.m. to 9 p.m., Panama City, FL

2. Wednesday, October 6, 2004, from 6 p.m. to 9 p.m., Port St. Joe, FL

3. Thursday, October 7, 2004, 6 p.m. to 9 p.m., Pensacola, FL

ADDRESSES: The public meeting locations are as follows:

1. Panama City—Florida State University, Panama City Campus, 4750 Collegiate Drive, Panama City, FL 32405

2. Port St. Joe—Port St. Joe Elementary School, 2201 Long Avenue, Port St. Joe, FL 32456

3. Pensacola—Pensacola Junior College, Warrington Campus, 5555 West Highway 98, Pensacola, FL 32507

FOR FURTHER INFORMATION CONTACT: Commanding Officer, Naval Surface Warfare Center Panama City, Attn: Environmental Team Lead, Mrs. Carmen Ferrer, 110 Vernon Avenue, Panama City, FL 32407; telephone (850) 234-4146; E-Mail: carmen.ferrer@navy.mil. Written comments on the scope of the EIS must be postmarked by November 4, 2004, and should be mailed to the above address.

Dated: September 20, 2004.
S.K. Melancon,
Paralegal Specialist, Office of the Judge Advocate General, Alternate Federal Register Liaison Officer.

[FR Doc. 04-21464 Filed 9-23-04; 8:45 am]

BILLING CODE 3810-FF-P